DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of currently approved collections. The ICR describes the nature of the information collection and its expected burden. The Federal Register Notice with a 60-day comment period soliciting comments on the following collection of information was published on October 7, 1999, [FR 64, pages 54720-54721].

DATE: Comments must be submitted on or before March 16, 2000. A comment to OMB is most effective if OMB receives it within 30 days of publication.

FOR FURTHER INFORMATION CONTACT: Judy Street on (202) 267-9895.

SUPPLEMENTARY INFORMATION:

Federal Aviation Administration (FAA)

Title: Employment Standards—Parts 107 and 108 of the Federal Aviation Regulations.

Type of Request: Extension of a currently approved collection.

OMB Control Number: 2120-0554.

Forms: N/A.

Affected Public: 1,305 airport operators and air carrier operators.

Abstract: Section 105 of Public Law 101-604, the Aviation Security Improvement Act of 1990, directed the FAA to prescribe standards for the hiring, continued employment and contracting of air carrier and appropriate airport security personnel. These standards were developed and have become part of 14 CFR parts 107 and 108. Airport operators will maintain at their principal business office at least one copy of evidence of compliance with training requirements for all employees having unescorted access privileges to security areas. Air carrier ground security coordinators are required to maintain at least one copy of the annual evaluation of their security-related functions.

Estimated Annual Burden Hours: 16,297 burden hours annually.

ADDRESSES: Send comments to the Office of Information and Regulatory Affairs, Office of Management and Budget, 725-17th Street, NW., Washington, DC 20503, Attention: FAA Desk Officer.

Comments Are Invited On: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued in Washington, DC, on February 9, 2000.
Steve Hopkins,
Manager, Standards and Information Division, APF-100.

[FR Doc. 00-3448 Filed 2-14-00; 8:45 am]

BILLING CODE 4910-13-M